DEPARTMENT OF DEFENSE

Department of the Navy

[USN-2007-0037]

Privacy Act of 1974; System of Records

AGENCY: Department of the Navy, DoD.

ACTION: Notice to amend a system of records.

SUMMARY: The Department of the Navy is amending a system of records notice in its existing inventory of record systems subject to the Privacy Act of 1974, (5 U.S.C. 552a), as amended.

DATES: This proposed action will be effective without further notice on July 23, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: June 18, 2007.
C.R. Choate,
Alternate OSD Federal Register Liaison Officer, Department of Defense.

N12711-1

System name:

Labor Management Relations Records System (February 22, 1993, 58 FR 10820).

Changes:

Delete “N12711-1” and replace with “NM12711-1.”

* * * * *

System location:

Delete entry and replace with “Office of Civilian Human Resources (OCHR), Labor and Employee Relations Division (Code 012), Department of the Navy (DON) and Designated Contractors; Human Resources Service Centers (HRSCs) and Human Resources Offices (HROs) at major commands and field activities employing civilians. Official mailing addresses are published in the Standard Navy Distribution List that is available at http://doni.daps.dla.mil/sndl.aspx.”

Categories of individuals covered by the system:

In line 1 and last line delete “Navy” and replace with “DON”.

Categories of records in the system:

Delete entry and replace with “Records are comprised of (1) Manual files maintained in paper folders, manually filed by type of case and case number (not individual). Folder contains all information pertaining to a specific case. Field activities maintain manual rosters of local union officials and representatives. OCHR maintains manual roster of addresses and files concerning national consultation with national/international unions regarding changes in Departmental level civilian personnel policies. (2) Some commands and field activities keep electronic records by type of case and case number (not individual) in localized case tracking systems. Bargaining unit files contain information about each bargaining unit, including contact information on union officials.”

* * * * *

Routine uses of records maintained in the system, including categories of users and the purposes of such uses:

Delete para 1 and replace with “To representatives of the Office of Personnel Management on matters relating to the inspection, survey, audit, or evaluation of DON Civilian Human Resources Programs.”

Delete para 2 and replace with “To the Comptroller General or any of his authorized representatives, in the course of the performance of duties of the Government Accountability Office relating to the DON's Labor Management Relations Program. To a duly appointed hearing examiner, Administrative Law Judge, arbitrator, or other proper 3rd party for the purpose of conducting a hearing or inquiry in connection with an employee's grievance, unfair labor practice charge, impasse, negotiability appeal, or other labor relations dispute.”

* * * * *

Policies and practices for storing, retrieving, accessing, retaining, and disposing of records in the system:

Storage:

Delete entry and replace with “Paper records in file folders and electronic storage media.

Retrievability:

Delete entry and replace with “Manual records are retrieved by case subject, case number, and/or individual employee names. Electronic records are retrieved by case subject, activity, bargaining unit, servicing personnel office, command, or 3rd party docket number.”

Safeguards:

Delete entry and replace with “All files are accessible only to authorized personnel having a need-to-know. Access to the electronic data base is controlled through the use of security codes.”

Retention and disposal:

Delete entry and replace with “Case files are maintained in accordance with records retention schedules. Files involved in administrative or judicial litigation may be permanently maintained. Union official rosters are normally destroyed after a new roster has been established.”

System manager(s) and address:

Delete entry and replace with “OCHR Labor and Employee Relations Division (Code 012), 614 Sicard Street, SE., Suite 100, Washington Navy Yard, DC 20374-5072.”

Notification procedure:

Delete entry and replace with “Individuals seeking to determine whether this system contains information about themselves should address written inquiries to the OCHR Labor and Employee Relations Division (Code 012), 614 Sicard Street, SE., Suite 100, Washington Navy Yard, DC 20374-5072, their servicing HRO or HRSC.

Request should contain individual's full name, any particulars, and signed.”

Record access procedures:

“Individuals seeking access to information about themselves contained in this system should address written inquiries to the OCHR Labor and Employee Relations Division (Code 012), 614 Sicard Street, SE., Suite 100, Washington Navy Yard, DC 20374-5072, their servicing HRO or HRSC.

Request should contain full name, any particulars, and be signed.”

* * * * *

Record source categories:

Delete entry and replace with “DON HRSCs, HROs, arbitrators, and labor organizations (unions).”

* * * * *

NM12711-1

System name:

Labor Management Relations Records System.

System location:

Office of Civilian Human Resources (OCHR), Labor and Employee Relations Division (Code 012), Department of the Navy (DON) and Designated Contractors; Human Resources Service Centers (HRSCs) and Human Resources Offices (HROs) at major commands and field activities employing civilians. Official mailing addresses are published in the Standard Navy Distribution List that is available at http://doni.daps.dla.mil/sndl.aspx.

Categories of individuals covered by the system:

DON civilian employees paid from appropriated and non-appropriated funds, who are involved in a grievance which has been referred to an arbitrator for resolution, or who are involved in the filing of an Unfair Labor practice complaint which has been referred to the Federal Labor Relations Authority (FLRA) for resolution, or who are involved in a labor negotiations impasse which has been referred to the Federal Service Impasses Panel or an interest arbitrator for resolution, or who are involved in a negotiability dispute which has been referred to the FLRA for resolution; union officials and representatives (both Navy employees and non-employees) involved in the aforementioned processes and in national consultation; independent arbitrators involved in grievance and interest arbitrations concerning Don activities.

Categories of records in the system:

Records are comprised of (1) Manual files maintained in paper folders, manually filed by type of case and case number (not individual). Folder contains all information pertaining to a specific case. Field activities maintain manual rosters of local union officials and representatives. OCHR maintains manual roster of addresses and files concerning national consultation with national/international unions regarding changes in Departmental level civilian personnel policies. (2) Some commands and field activities keep electronic records by type of case and case number (not individual) in localized case tracking systems. Bargaining unit files contain information about each bargaining unit, including contact information on union officials.

Authority for maintenance of the system:

5 U.S.C. 7101-7135.

Purpose(s):

To manage the Labor-Management Relations Program, e.g., administration/implementation of arbitration awards; processing of unfair labor practice charges; adjudication of negotiability disputes, resolution of negotiations impasses; interpretation of 5 U.S.C. 7101-7135 through 3rd party case decisions; national consultation and other dealings with recognized unions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To representatives of the Office of Personnel Management on matters relating to the inspection, survey, audit, or evaluation of DON Civilian Human Resources Programs.

To the Comptroller General or any of his authorized representatives, in the course of the performance of duties of the Government Accountability Office relating to the DON's Labor Management Relations Program. To a duly appointed hearing examiner, Administrative Law Judge, arbitrator, or other proper 3rd party for the purpose of conducting a hearing or inquiry in connection with an employee's grievance, unfair labor practice charge, impasse, negotiability appeal, or other labor relations dispute.

The ‘Blanket Routine Uses’ that appear at the beginning of the Navy's compilation of systems of records apply to this system.

Policies and practices for storing, retrieving, accessing, retaining, and disposing of records in the system:

Storage:

Paper records in file folders and electronic storage media.

Retrievability:

Manual records are retrieved by case subject, case number, and/or individual employee names. Electronic records are retrieved by case subject, activity, bargaining unit, servicing personnel office, command, or 3rd party docket number.

Safeguards:

All files are accessible only to authorized personnel having a need-to-know. Access to the electronic data base is controlled through the use of security codes.

Retention and disposal:

Case files are maintained in accordance with records retention schedules. Files involved in administrative or judicial litigation may be permanently maintained. Union official rosters are normally destroyed after a new roster has been established.

System manager(s) and address:

OCHR Labor and Employee Relations Division (Code 012), 614 Sicard Street, SE., Suite 100, Washington Navy Yard, DC 20374-5072.

Notification procedure:

Individuals seeking to determine whether this system contains information about themselves should address written inquiries to the OCHR Labor and Employee Relations Division (Code 012), 614 Sicard Street, SE., Suite 100, Washington Navy Yard, DC 20374-5072, their servicing HRO or HRSC.

Request should contain individual's full name, any particulars, and signed.

Record access procedures:

Individuals seeking access to information about themselves contained in this system should address written inquiries to the OCHR Labor and Employee Relations Division (Code 012), 614 Sicard Street, SE., Suite 100, Washington Navy Yard, DC 20374-5072, their servicing HRO or HRSC.

Request should contain full name, any particulars, and signed.

Contesting record procedures:

The Navy's rules for accessing records, and for contesting contents and appealing initial agency determinations are published in Secretary of the Navy Instruction 5211.5; 32 CFR part 701; or may be obtained from the system manager.

Record source categories:

DON Human Resource Services Centers, Human Resources Offices, arbitrators, and labor organizations (unions).

Exemptions claimed for the system:

None.

[FR Doc. E7-12158 Filed 6-21-07; 8:45 am]

BILLING CODE 5001-06-P